DEPARTMENT OF COMMERCE

International Trade Administration

The Ohio State University, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 2104, U.S. Department of Commerce, 14th and Constitution Avenue, NW., Washington, DC.

Docket Number: 08-027. Applicant: The Ohio State University, Columbus, OH 43210. Instrument: Electron Microscope, Model Helios 600. Manufacturer: FEI Company/Phillips Electron Optics, The Netherlands. Intended Use: See notice at 73 FR 37408, July 1, 2008.

Docket Number: 08-029. Applicant: Vanderbilt University, Nashville, TN 37232-8725. Instrument: Electron Microscope, Model Tecnai G2 F20 TWIN. Manufacturer: FEI Company, The Netherlands. Intended Use: See notice at 72 FR 37408, July 1, 2008.

Docket Number: 08-030. Applicant: University of Washington, Seattle, WA 98195. Instrument: Electron Microscope, Model Tecnai G2 F20 S-TWIN. Manufacturer: FEI Company, The Netherlands. Intended Use: See notice at 72 FR 34708, July 1, 2008.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: July 25, 2008.
Faye Robinson,
Director, Statutory Import Programs Staff, Import Administration.

[FR Doc. E8-17723 Filed 8-4-08; 8:45 am]

BILLING CODE 3510-DS-M